DEPARTMENT OF STATE

[Public Notice 7439]

30-Day Notice of Proposed Information Collection: Certificate of Eligibility for Exchange Visitor (J-1) Status; Form DS-2019, OMB No. 1405-0119.

ACTION: Notice of request for public comment and submission to OMB of proposed collection of information.

SUMMARY: The Department of State has submitted the following information collection request to the Office of Management and Budget (OMB) for approval in accordance with the Paperwork Reduction Act of 1995.

• Title of Information Collection: Certificate of Eligibility for Exchange Visitor (J-1) Status

• OMB Control Number: 1405-0119

• Type of Request: Extension of a Currently Approved Collection

• Originating Office: Office of Exchange Coordination & Designation, ECA/EC

• Form Number: Form DS-2019

• Respondents: U.S. Department of State Designated Sponsors

• Estimated Number of Respondents: 1460

• Estimated Number of Responses: 350,000 annually

• Average Hours per Response: 45 minutes

• Total Estimated Burden: 262,500 hours

• Frequency: On occasion

• Obligation To Respond: Required to Obtain or Retain a Benefit

DATES: Submit comments to the Office of Management and Budget (OMB) for up to 30 days from May 3, 2011.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Stanley S. Colvin, Deputy Assistant Secretary for Private Sector Exchange, U.S. Department of State, SA-5, Floor 5, 2200 C Street, NW., Washington, DC 20522; or e-mail at jexchanges@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection

The collection is the continuation of information collected and needed by the Bureau of Educational and Cultural Affairs in administering the Exchange Visitor Program (J-Visa) under the provisions of the Mutual Educational and Cultural Exchange Act, as amended.

Methodology

Access to Form DS-2019 is made available to Department designated sponsors electronically via the Student and Exchange Visitor Information System (SEVIS).

Dated: April 27, 2011.
Stanley S. Colvin,
Deputy Assistant Secretary for Private Sector Exchange, Bureau of Educational and Cultural Affairs, Department of State.

[FR Doc. 2011-10765 Filed 5-2-11; 8:45 am]

BILLING CODE 4710-05-P